DEPARTMENT OF ENERGY

Federal Energy Regulatory Commission

[Docket No. CP08-64-000]

Northwest Pipeline GP; Notice of Request Under Blanket Authorization

February 8, 2008.

Take notice that on January 25, 2008, Northwest Pipeline GP (Northwest), P.O. Box 58900, Salt Lake City, Utah 84158-0900, filed in Docket No. CP08-64-000, an application pursuant to Sections 157.205 and 157.210 of the Commission's Regulations under the Natural Gas Act (NGA) as amended, to expand the secondary function of two existing portable compressor units at its Kemmerer compressor station in Lincoln County, Wyoming, under Northwest's blanket certificate issued in Docket No. CP82-433-000,¹ all as more fully set forth in the application which is on file with the Commission and open to the public for inspection.

¹ 20 FERC ¶ 62,412 (1982).

Northwest proposes to use the two portable Solar Centaur turbine-driven centrifugal compressor units (each rated ISO-rated at 4,700 horsepower) on a temporary, as needed basis, to temporarily provide increased throughput, provided the compressor units are not needed for their primary purpose of replacing unavailable permanent compression elsewhere on Northwest's transmission system. Northwest would use any increased throughput to reduce capacity constraints that may be experienced by its existing customers. Northwest states that the design throughput capabilities at the Kemmerer compressor station would not change. Northwest further states that no additional capital cost expenditures would be needed in this proposal, because Northwest already owns the portable compressor units and the auxiliary infrastructure necessary to accommodate the two compressor units already exists at the Kemmerer compressor station. Northwest states that it anticipates any subsequent costs for disconnecting, moving, and reconnecting the portable compressor units, as necessary, would be relatively minimal and expensed.

Any questions concerning this application may be directed to Lynn Dahlberg, Manager, Certificates and Tariffs, P.O. Box 58900, Salt Lake City, Utah 84158-0900, or telephone (801) 584-6851, facsimile (801) 584-7764, or e-mail Idahlber@williams.com.

This filing is available for review at the Commission or may be viewed on the Commission's Web site at http://www.ferc.gov, using the “eLibrary” link. Enter the docket number excluding the last three digits in the docket number filed to access the document. For assistance, please contact FERC Online Support at FERC OnlineSupport@ferc.gov or call toll-free at (866)206-3676, or, for TTY, contact (202)502-8659. Comments, protests and interventions may be filed electronically via the Internet in lieu of paper. See, 18 CFR 385.2001(a)(1)(iii) and the instructions on the Commission's Web site under the “e-Filing” link. The Commission strongly encourages intervenors to file electronically.

Any person or the Commission's staff may, within 60 days after issuance of the instant notice by the Commission, file pursuant to Rule 214 of the Commission's Procedural Rules (18 CFR 385.214) a motion to intervene or notice of intervention and pursuant to Section 157.205 of the regulations under the NGA (18 CFR 157.205), a protest to the request. If no protest is filed within the time allowed therefore, the proposed activity shall be deemed to be authorized effective the day after the time allowed for filing a protest. If a protest is filed and not withdrawn within 30 days after the allowed time for filing a protest, the instant request shall be treated as an application for authorization pursuant to section 7 of the NGA.

Kimberly D. Bose,
Secretary.

[FR Doc. E8-2970 Filed 2-15-08; 8:45 am]

BILLING CODE 6717-01-P